SECURITIES AND EXCHANGE COMMISSION

[File No. 500-1]

In the Matter of Southwestern Medical Solutions, Inc.; Order of Suspension of Trading

September 11, 2006.

It appears to the Securities and Exchange Commission that there is a lack of current and accurate information concerning the securities of Southwestern Medical Solutions, Inc. (“Southwestern”), a non-reporting issuer quoted on the Pink Sheets under the ticker symbol SWNM, because of questions regarding the accuracy and adequacy of assertions by Southwestern, and by others, concerning, among other things: (1) The existence of applications for U.S. Food and Drug Administration approvals for its Labguard product, (2) the existence of a patent and trademark, and (3) the receipt of an order for the sale of several thousand units of Labguard.

The Commission is of the opinion that the public interest and the protection of investors require a suspension of trading in the securities of the above-listed company.

Therefore, it is ordered, pursuant to Section 12(k) of the Securities Exchange Act of 1934, that trading in the securities of the above-listed company is suspended for the period from 9:30 a.m. EST, September 11, 2006 through 11:59 p.m. EST, on September 22, 2006.

By the Commission.
J. Lynn Taylor,
Assistant Secretary.

[FR Doc. 06-7654 Filed 9-11-06; 12:03 pm]

BILLING CODE 8010-01-P